DEPARTMENT OF TRANSPORTATION

Federal Aviation Administration

14 CFR Part 39

[Docket No. FAA-2022-1171; Project Identifier AD-2022-00852-T]

RIN 2120-AA64

Airworthiness Directives; The Boeing Company Airplanes

AGENCY: Federal Aviation Administration (FAA), DOT.

ACTION: Notice of proposed rulemaking (NPRM).

SUMMARY: The FAA proposes to supersede Airworthiness Directive (AD) 2021-08-19, which applies to all The Boeing Company Model 787-8, -9, and -10 airplanes. AD 2021-08-19 requires repetitive general visual inspections for disengaged or damaged decompression panels of the bilge barriers located in the forward and aft cargo compartments, reinstallation of disengaged but undamaged panels, and replacement of damaged panels. Since the FAA issued AD 2021-08-19, new procedures for changing or replacing the bilge barrier assembly in the forward cargo compartment have been developed. This proposed AD would retain the requirements of AD 2021-08-19 and require changing or replacing the bilge barrier assembly in the forward and aft cargo compartments, which would terminate the repetitive inspections. The FAA is proposing this AD to address the unsafe condition on these products.

DATES: The FAA must receive comments on this proposed AD by January 20, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet myboeingfleet.com. You may view this service information at the FAA, Airworthiness Products Section, Operational Safety Branch, 2200 South 216th St., Des Moines, WA. For information on the availability of this material at the FAA, call 206-231-3195. It is also available at regulations.gov by searching for and locating Docket No. FAA-2022-1171.

Examining the AD Docket

You may examine the AD docket at regulations.gov by searching for and locating Docket No. FAA-2022-1171; or in person at Docket Operations between 9 a.m. and 5 p.m., Monday through Friday, except Federal holidays. The AD docket contains this NPRM, any comments received, and other information. The street address for Docket Operations is listed above.

FOR FURTHER INFORMATION CONTACT: Brandon Lucero, Aerospace Engineer, Cabin Safety and Environmental Systems Section, FAA, Seattle ACO Branch, 2200 South 216th St., Des Moines, WA 98198; phone and fax: 206-231-3569; email: brandon.lucero@faa.gov.

SUPPLEMENTARY INFORMATION:

Comments Invited

The FAA invites you to send any written relevant data, views, or arguments about this proposal. Send your comments to an address listed under ADDRESSES. Include “Docket No. FAA-2022-1171; Project Identifier AD-2022-00852-T” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Brandon Lucero, Aerospace Engineer, Cabin Safety and Environmental Systems Section, FAA, Seattle ACO Branch, 2200 South 216th St., Des Moines, WA 98198; phone and fax: 206-231-3569; email: brandon.lucero@faa.gov. Any commentary that the FAA receives that is not specifically designated as CBI will be placed in the public docket for this rulemaking.

Background

The FAA issued AD 2021-08-19, Amendment 39-21513 (86 FR 20440, April 20, 2021) (AD 2021-08-19), for all The Boeing Company Model 787-8, -9, and -10 airplanes. AD 2021-08-19 was prompted by reports of multiple incidents of torn decompression panels found in the bilge area, and the determination that additional airplanes are subject to the unsafe condition. AD 2021-08-19 requires repetitive general visual inspections for disengaged or damaged decompression panels of the bilge barriers located in the forward and aft cargo compartments, reinstallation of disengaged but undamaged panels, and replacement of damaged panels. The FAA issued AD 2021-08-19 to address the possibility of leakage in the bilge area, which could, in the event of a cargo fire, result in insufficient Halon concentrations to adequately control the fire. This condition, if not addressed, could result in the loss of continued safe flight and landing of the airplane.

Actions Since AD 2021-08-19 Was Issued

The preamble to AD 2021-08-19 specifies that the FAA considers that AD “interim action” and that the FAA might consider further rulemaking if a modification is developed, approved, and available. The manufacturer has since developed such a modification (procedures for changing or replacing the bilge barrier assembly in the forward cargo compartment), which would terminate the repetitive inspections required by AD 2021-08-19. The FAA has determined that this modification should be required.

FAA's Determination

The FAA is issuing this NPRM after determining that the unsafe condition described previously is likely to exist or develop on other products of the same type design.

Related Service Information Under 1 CFR Part 51

The FAA reviewed Boeing Alert Requirements Bulletin B787-81205-SB500011-00 RB, Issue 001, dated May 10, 2022. This service information specifies procedures for changing or replacing the bilge barrier assembly in the forward cargo compartments at stations (STA) 345 and 825 and aft cargo compartment at STA 1304. This service information is reasonably available because the interested parties have access to it through their normal course of business or by the means identified in the ADDRESSES section.

Proposed AD Requirements in This NPRM

This proposed AD would retain all of the requirements of AD 2021-08-19. This proposed AD would also require accomplishing the actions identified in Boeing Alert Requirements Bulletin B787-81205-SB500011-00 RB, Issue 001, dated May 10, 2022, described previously, except for any differences identified as exceptions in the regulatory text of this proposed AD.

For information on the procedures and compliance times, see this service information at regulations.gov by searching for and locating Docket No. FAA-2022-1171.

Costs of Compliance

The FAA estimates that this AD, if adopted as proposed, would affect 135 airplanes of U.S. registry. The FAA estimates the following costs to comply with this proposed AD:

Estimated Costs
Action | Labor cost | Parts cost | Cost per product | Cost on U.S. operators
Repetitive inspections (retained actions) | 3 work-hours × $85 per hour = $255 per inspection cycle | $0 | $255 per inspection cycle | $34,425 per inspection cycle.
Change or replace bilge barrier (new proposed action) | Up to 7 work-hours × $85 per hour = $595 | Up to $12,100 | Up to $12,695 | Up to $1,713,825.

The FAA estimates the following costs to do any necessary replacements that would be required based on the results of the proposed inspection. The agency has no way of determining the number of aircraft that might need these replacements:

On-Condition Costs
Action | Labor cost | Parts cost | Cost per product
Replacement (retained requirement) | 1 work-hour × $85 per hour = $85 | $ * | $85
* The FAA has received no definitive data on which to base the parts costs estimates for the replacements.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-08-19, Amendment 39-21513 (86 FR 20440, April 20, 2021), and

b. Adding the following new AD:

The Boeing Company: Docket No. FAA-2022-1171; Project Identifier AD-2022-00852-T.

(a) Comments Due Date

The FAA must receive comments on this airworthiness directive (AD) action by January 20, 2023.

(b) Affected ADs

This AD replaces AD 2021-08-19, Amendment 39-21513 (86 FR 20440, April 20, 2021) (AD 2021-08-19).

(c) Applicability

This AD applies to all The Boeing Company Model 787-8, -9, and -10 airplanes, certificated in any category.

(d) Subject

Air Transport Association (ATA) of America Code 50, Cargo and accessory compartments.

(e) Unsafe Condition

This AD was prompted by reports of multiple incidents of torn decompression panels being found in the bilge area, and the development of new procedures for changing or replacing the bilge barrier assembly in the forward cargo compartment. The FAA is issuing this AD to address the possibility of leakage in the bilge area, which could, in the event of a cargo fire, result in insufficient Halon concentrations to adequately control the fire. This condition, if not addressed, could result in the loss of continued safe flight and landing of the airplane.

(f) Compliance

Comply with this AD within the compliance times specified, unless already done.

(g) Retained Repetitive Inspections and Corrective Action With No Changes

This paragraph restates the requirements of paragraph (g) of AD 2021-08-19 with no changes. At the applicable times specified in paragraph (g)(1) or (2) of this AD: Do a general visual inspection for disengaged or damaged (torn) decompression panels of the bilge barriers located in the forward and aft cargo compartments. If any disengaged but undamaged panel is found: Before further flight, reinstall the panel. If any damaged panel is found: Before further flight, replace the panel with a new or serviceable panel. Reinstallations and replacements must be done in accordance with the operator's maintenance or inspection program, as applicable.

(1) If a general visual inspection for disengaged or damaged (torn) decompression panels of the bilge barriers was done before May 5, 2021 (the effective date of AD 2021-08-19): Do the next inspection within 4 calendar months after the most recent inspection. Repeat the inspection thereafter at intervals not to exceed 4 calendar months.

(2) If a general visual inspection for disengaged or damaged (torn) decompression panels of the bilge barriers was not done before May 5, 2021 (the effective date of AD 2021-08-19): Do the initial inspection within 30 days after May 5, 2021. Repeat the inspection thereafter at intervals not to exceed 4 calendar months.

(h) Retained MEL Provisions With No Changes

This paragraph restates the provisions of paragraph (h) of AD 2021-08-19 with no changes. If any decompression panel inspected as required by this AD is disengaged or damaged, the airplane may be operated as specified in the operator's existing FAA-approved minimum equipment list (MEL), provided provisions that address the disengaged or damaged decompression panels are included in the MEL.

(i) New Required Actions

Except as specified by paragraph (j) of this AD: At the applicable times specified in the “Compliance,” paragraph of Boeing Alert Requirements Bulletin B787-81205-SB500011-00 RB, Issue 001, dated May 10, 2022, do all applicable actions identified in, and in accordance with, the Accomplishment Instructions of Boeing Alert Requirements Bulletin B787-81205-SB500011-00 RB, Issue 001, dated May 10, 2022. Accomplishing the actions required by this paragraph terminates the repetitive inspections required by paragraph (g) of this AD.

Note 1 to paragraph (i): Guidance for accomplishing the actions required by this AD can be found in Boeing Alert Service Bulletin B787-81205-SB500011-00, Issue 001, dated May 10, 2022, which is referred to in Boeing Alert Requirements Bulletin B787-81205-SB500011-00 RB, Issue 001, dated May 10, 2022.

(j) Exceptions to Service Information Specifications

Where the Compliance Time column of the table in the “Compliance” paragraph of Boeing Alert Requirements Bulletin B787-81205-SB500011-00 RB, Issue 001, dated May 10, 2022, uses the phrase “the Issue 001 date of Requirements Bulletin B787-81205-SB500011-00 RB,” this AD requires using “the effective date of this AD.”

(k) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved for AD 2021-08-19 are approved as AMOCs for the corresponding provisions of Boeing Alert Requirements Bulletin B787-81205-SB500011-00 RB, Issue 001, dated May 10, 2022, that are required by paragraph (i) of this AD.

(l) Related Information

(1) For more information about this AD, contact Brandon Lucero, Aerospace Engineer, Cabin Safety and Environmental Systems Section, FAA, Seattle ACO Branch, 2200 South 216th St., Des Moines, WA 98198; phone and fax: 206-231-3569; email: brandon.lucero@faa.gov.

(2) For service information identified in this AD, contact Boeing Commercial Airplanes, Attention: Contractual & Data Services (C&DS), 2600 Westminster Blvd., MC 110-SK57, Seal Beach, CA 90740-5600; telephone 562-797-1717; internet myboeingfleet.com. You may view this referenced service information at the FAA, Airworthiness Products Section, Operational Safety Branch, 2200 South 216th St., Des Moines, WA. For information on the availability of this material at the FAA, call 206-231-3195.

Issued on September 21, 2022.
Christina Underwood,
Acting Director, Compliance & Airworthiness Division, Aircraft Certification Service.

[FR Doc. 2022-26466 Filed 12-5-22; 8:45 am]

BILLING CODE 4910-13-P